DEPARTMENT OF ENERGY

Federal Energy Regulatory Commission

Combined Notice of Filings #2

Take notice that the Commission received the following exempt wholesale generator filings:

Docket Numbers: EG24-22-000.

Applicants: CPV Stagecoach Solar, LLC.

Description: CPV Stagecoach Solar, LLC submits Notice of Self-Certification of Exempt Wholesale Generator Status.

Filed Date: 10/31/23.

Accession Number: 20231031-5050.

Comment Date: 5 p.m. ET 11/21/23.

Docket Numbers: EG24-23-000.

Applicants: Faraday Interconnection LLC.

Description: Faraday Interconnection LLC submits Notice of Self-Certification of Exempt Wholesale Generator Status.

Filed Date: 10/31/23.

Accession Number: 20231031-5116.

Comment Date: 5 p.m. ET 11/21/23.

Docket Numbers: EG24-24-000.

Applicants: Faraday Solar B LLC.

Description: Faraday Solar B LLC submits Notice of Self-Certification of Exempt Wholesale Generator Status.

Filed Date: 10/31/23.

Accession Number: 20231031-5117.

Comment Date: 5 p.m. ET 11/21/23.

Take notice that the Commission received the following electric rate filings:

Docket Numbers: ER11-2029-009; ER10-2596-013; ER12-2200-009.

Applicants: Mehoopany Wind Energy LLC, Fowler Ridge II Wind Farm LLC, Cedar Creek II, LLC.

Description: Notice of Change in Status of Cedar Creek II, LLC, et al.

Filed Date: 10/31/23.

Accession Number: 20231031-5196.

Comment Date: 5 p.m. ET 11/21/23.

Docket Numbers: ER16-2449-004; ER21-628-004.

Applicants: Harry Allen Solar Energy LLC, Boulder Solar II, LLC.

Description: Notice of Change in Status of Boulder Solar II, LLC, et al.

Filed Date: 10/31/23.

Accession Number: 20231031-5197.

Comment Date: 5 p.m. ET 11/21/23.

Docket Numbers: ER19-1575-010; ER10-2488-027; ER13-1586-022; ER14-2871-021; ER15-463-020; ER15-621-020; ER15-622-020; ER16-72-016; ER16-182-016; ER16-902-013; ER17-47-013; ER17-48-014; ER18-47-013; ER18-2240-009; ER18-2241-009; ER19-427-009; ER19-1660-009; ER19-1662-009; ER19-1667-009; ER20-71-009; ER20-72-009; ER20-75-009; ER20-76-011; ER20-77-009; ER20-79-009; ER21-1368-005; ER21-1369-006; ER21-1371-006; ER21-1373-007; ER21-1376-007; ER21-2782-006; ER22-149-006; ER22-1439-006; ER22-1440-006; ER22-1441-006; ER22-1442-004; ER22-2419-002; ER22-2420-002; ER23-562-003; ER23-1048-002; ER23-2001-002.

Applicants: Sagebrush ESS II, LLC, Lockhart ESS, LLC, TGP Energy Management II, LLC, Lockhart Solar PV II, LLC, Lockhart Solar PV, LLC, EdSan 1B Group 3, LLC, EdSan 1B Group 2, LLC, EdSan 1B Group 1 Sanborn, LLC, EdSan 1B Group 1 Edwards, LLC, Sagebrush Line, LLC, Sagebrush ESS, LLC, ES 1A Group 3 Opco, LLC, ES 1A Group 2 Opco, LLC, Edwards Sanborn Storage II, LLC, Edwards Sanborn Storage I, LLC, Valley Center ESS, LLC, Voyager Wind IV Expansion, LLC, Painted Hills Wind Holdings, LLC, Tehachapi Plains Wind, LLC, Oasis Alta, LLC, Coachella Wind Holdings, LLC, Coachella Hills Wind, LLC, Terra-Gen VG Wind, LLC, Mojave 16/17/18 LLC, Mojave 3/4/5 LLC,LUZ Solar Partners IX, Ltd., Garnet Wind, LLC, Yavi Energy, LLC, Voyager Wind II, LLC, Terra-Gen Mojave Windfarms, LLC, DifWind Farms LTD VI, Voyager Wind I, LLC, Cameron Ridge II, LLC, San Gorgonio Westwinds II—Windustries, LLC, Ridgetop Energy, LLC, Pacific Crest Power, LLC, San Gorgonio Westwinds II, LLC, Cameron Ridge, LLC, TGP Energy Management, LLC, Oasis Power Partners, LLC, Alta Oak Realty, LLC.

Description: Notice of Non-Material Change in Status of Alta Oak Realty, LLC, et al.

Filed Date: 10/31/23.

Accession Number: 20231031-5206.

Comment Date: 5 p.m. ET 11/21/23.

Docket Numbers: ER20-391-008; ER21-2557-003; ER22-2662-003; ER22-2663-003; ER22-2664-003; ER23-1275-001; ER23-1276-001; ER23-1277-001.

Applicants: Aron Energy Prepay 23 LLC, Aron Energy Prepay 22 LLC, Aron Energy Prepay 21 LLC, Aron Energy Prepay 16 LLC, Aron Energy Prepay 15 LLC, Aron Energy Prepay 14 LLC, Aron Energy Prepay 5 LLC, J. Aron & Company LLC.

Description: Notice of Non-Material Change in Status of J. Aron & Company LLC, et al.

Filed Date: 10/31/23.

Accession Number: 20231031-5213.

Comment Date: 5 p.m. ET 11/21/23.

Docket Numbers: ER22-2419-003; ER22-2420-003.

Applicants: Lockhart Solar PV II, LLC, Lockhart Solar PV, LLC.

Description: Notice of Non-Material Change in Status of Lockhart Solar PV, LLC, et al.

Filed Date: 10/31/23.

Accession Number: 20231031-5208.

Comment Date: 5 p.m. ET 11/21/23.

Docket Numbers: ER23-2562-001.

Applicants: Merelec USA LLC.

Description: Tariff Amendment: Per Deficiency Letter (ER23-2562) to be effective 10/3/2023.

Filed Date: 10/31/23.

Accession Number: 20231031-5177.

Comment Date: 5 p.m. ET 11/21/23.

Docket Numbers: ER24-257-000.

Applicants: NorthWestern Corporation, Southwest Power Pool, Inc.

Description: § 205(d) Rate Filing: NorthWestern Corporation submits tariff filing per 35.13(a)(2)(iii: NorthWestern Corp—Name Change to NorthWestern Energy Public Service Corp. to be effective 1/1/2024.

Filed Date: 10/31/23.

Accession Number: 20231031-5072.

Comment Date: 5 p.m. ET 11/21/23.

Docket Numbers: ER24-258-000.

Applicants: Southern California Edison Company.

Description: § 205(d) Rate Filing: TMCR termination—Amending Appendix XI to be effective 1/1/2024.

Filed Date: 10/31/23.

Accession Number: 20231031-5076.

Comment Date: 5 p.m. ET 11/21/23.

Docket Numbers: ER24-259-000.

Applicants: Startrans IO, LLC.

Description: § 205(d) Rate Filing: Startrans IO, LLC TRBAA 2024 Update to be effective 1/1/2024.

Filed Date: 10/31/23.

Accession Number: 20231031-5089.

Comment Date: 5 p.m. ET 11/21/23.

Docket Numbers: ER24-260-000.

Applicants: Midcontinent Independent System Operator, Inc., Dairyland Power Cooperative.

Description: § 205(d) Rate Filing: Midcontinent Independent System Operator, Inc. submits tariff filing per 35.13(a)(2)(iii: 2023-10-31_DPC Incentive Rate Request to be effective 1/1/2024.

Filed Date: 10/31/23.

Accession Number: 20231031-5120.

Comment Date: 5 p.m. ET 11/21/23.

Docket Numbers: ER24-261-000.

Applicants: New York Independent System Operator, Inc.

Description: § 205(d) Rate Filing: NYISO 205: EPC Agreement for CY2017 LI System Deliverability Upgrade (SA2776) to be effective 10/17/2023.

Filed Date: 10/31/23.

Accession Number: 20231031-5123.

Comment Date: 5 p.m. ET 11/21/23.

Docket Numbers: ER24-262-000.

Applicants: Mustang Hills, LLC.

Description: § 205(d) Rate Filing: Notice of Non-Mat. Change in Status &amp; MBR Tariff Revisions to be effective 12/31/2023.

Filed Date: 10/31/23.

Accession Number: 20231031-5129.

Comment Date: 5 p.m. ET 11/21/23.

Docket Numbers: ER24-263-000.

Applicants: BE-Pine 1 LLC.

Description: § 205(d) Rate Filing: Normal filing 2023 to be effective 11/1/2023.

Filed Date: 10/31/23.

Accession Number: 20231031-5130.

Comment Date: 5 p.m. ET 11/21/23.

Docket Numbers: ER24-264-000.

Applicants: DesertLink, LLC.

Description: Compliance filing: DesertLink LLC Annual TRBAA Filing to be effective 1/1/2024.

Filed Date: 10/31/23.

Accession Number: 20231031-5134.

Comment Date: 5 p.m. ET 11/21/23.

Docket Numbers: ER24-265-000.

Applicants: Southwest Power Pool, Inc.

Description: § 205(d) Rate Filing: Revisions to Attachment W to Update Index of Grandfathered Agreements to be effective 1/1/2024.

Filed Date: 10/31/23.

Accession Number: 20231031-5168.

Comment Date: 5 p.m. ET 11/21/23.

Docket Numbers: ER24-266-000.

Applicants: Solar of Alamosa LLC.

Description: Baseline eTariff Filing: Market-Based Rate Application to be effective 11/1/2023.

Filed Date: 10/31/23.

Accession Number: 20231031-5175.

Comment Date: 5 p.m. ET 11/21/23.

Docket Numbers: ER24-267-000.

Applicants: Duke Energy Carolinas, LLC.

Description: § 205(d) Rate Filing: DEC-DESC Orangeburg Dynamic Transfer Agmt RS No. 618 to be effective 1/1/2024.

Filed Date: 10/31/23.

Accession Number: 20231031-5190.

Comment Date: 5 p.m. ET 11/21/23.

Docket Numbers: ER24-268-000.

Applicants: Florida Power & Light Company.

Description: § 205(d) Rate Filing: FPL OATT Updated Stated Rate for NITS & P-to-P Trans Service on FPL Pen FL Sys to be effective 1/1/2024.

Filed Date: 10/31/23.

Accession Number: 20231031-5192.

Comment Date: 5 p.m. ET 11/21/23.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: October 31, 2023.
Debbie-Anne A. Reese,
Deputy Secretary.

[FR Doc. 2023-24485 Filed 11-3-23; 8:45 am]

BILLING CODE 6717-01-P